FEDERAL COMMUNICATIONS COMMISSION

Notice of Public Information Collection(s) Being Reviewed by the Federal Communications Commission, Comments Requested

January 9, 2008.

SUMMARY: The Federal Communications Commission, as part of its continuing effort to reduce paperwork burden, invites the general public and other Federal agencies to take this opportunity to comment on the following information collection(s), as required by the Paperwork Reduction Act of 1995 (PRA), 44 U.S.C. 3501-3520. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before March 17, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554, or via the Internet to PRA@fcc.gov.

FOR FURTHER INFORMATION CONTACT: For additional information about the information collection(s), contact Leslie F. Smith via the Internet at PRA@fcc.gov or call (202) 418-0217.

SUPPLEMENTARY INFORMATION: OMB Control Number: 3060-0410.

Title: Forecast of Investment Usage Report and Actual Usage of Investment Report.

Report Numbers: FCC Reports 495A and 495B.

Form Numbers: N/A.

Type of Review: Extension of a currently approved collection.

Respondents: Business or other for-profit.

Number of Respondents and Responses: 94 respondents; 188 responses.

Estimated Time per Response: 40 hours.

Obligation To Respond: Mandatory—The ARMIS reporting requirements were established by the Commission in 1987 to facilitate the timely and efficient analysis of carrier operating costs and rates of return, to provide an improved basis for audits and other oversight functions, and to enhance the Commission's ability to quantify the effects of alternative policy proposals. Additional ARMIS Reports were added in 1991 and 1992. Incumbent LECs must submit the ARMIS reports to the Commission annually on or before April 1. See Reporting Requirements of Certain Class A and Tier I Telephone Companies (Parts 31, 43, 67 and 69 of the FCC's Rules), Order, 2 FCC Rcd 5770 (1987), modified on recon, 3 FCC Rcd 6375 (1988) (ARMIS Order). Also, see 47 CFR Part 43, Section 43.21.

Frequency of Response: Annual reporting requirement.

Total Annual Burden: 7,520 hours.

Total Annual Cost: $0.00.

Privacy Act Impact Assessment: No impacts.

Nature of Extent of Confidentiality: This collection addresses information of a confidential nature. Respondents have requested and filed for confidential treatment of information they believe should be withheld from public inspection under 47 CFR 0.459 of the Commission's rules.

Needs and Uses: The 495A Report provides the forecast and resulting investment allocation incorporated in a carrier's cost support for its access tariff. The 495B Report enables the Commission's staff to monitor actual and forecasted investment use. These reports help ensure that the regulated operations of the carriers do not subsidize the nonregulated operations of those same carriers. This information is also a part of the data necessary to support the Commission's audit and other oversight functions. This data provides the necessary detail to enable the Commission to fulfill it regulatory responsibility. There are no changes to the ARMIS Reports 495A and 495B.

OMB Control Number: 3060-0511.

Title: ARMIS Access Report.

Report Number: FCC Report 43-04.

Form Number: N/A.

Type of Review: Extension of a currently approved collection.

Respondents: Business or other for-profit entities.

Number of Respondents and Responses: 79 respondents; 79 responses.

Estimated Time per Response: 153 hours.

Obligation To Respond: Mandatory—The ARMIS reporting requirements were established by the Commission in 1987 to facilitate the timely and efficient analysis of carrier operating costs and rates of return, to provide an improved basis for audits and other oversight functions, and to enhance the Commission's ability to quantify the effects of alternative policy proposals. Additional ARMIS Reports were added in 1991 and 1992. Incumbent LECs must submit the ARMIS reports to the Commission annually on or before April 1. See Reporting Requirements of Certain Class A and Tier I Telephone Companies (Parts 31, 43, 67 and 69 of the FCC's Rules), Order, 2 FCC Rcd 5770 (1987), modified on recon, 3 FCC Rcd 6375 (1988) (ARMIS Order). Also, see 47 CFR Part 43, Section 43.21.

Frequency of Response: Annual reporting requirement.

Total Annual Burden: 12,087 hours.

Total Annual Cost: $0.00.

Privacy Act Impact Assessment: No impacts.

Nature of Extent of Confidentiality: This collection does not address information of a confidential nature. Respondents may request confidential treatment for information they believe should be withheld from public inspection under 47 CFR 0.459 of the Commission's rules.

Needs and Uses: The ARMIS 43-04 provides jurisdictional separations and access charge data by Part 36 category of the Commission's rules and regulations. The ARMIS Report 43-04 enables the Commission to monitor revenue requirements, joint cost allocations, jurisdictional separations and access charges. This information is also a part of the data necessary to support the Commission's audit and other oversight functions. This data provides the necessary detail to enable the Commission to fulfill its regulatory responsibility.

In this collection, we are revising the number of carriers filing this ARMIS report from 92 to 89 to reflect three carriers that were sold.

OMB Control Number: 3060-0395.

Title: The ARMIS USOA Report (ARMIS Report 43-02); the ARMIS Service Quality Report (ARMIS Report 43-05); and the ARMIS Infrastructure Report (ARMIS Report 43-07).

Report Numbers: FCC Reports 43-02, 43-05 and 43-07.

Form Number: N/A.

Type of Review: Extension of a currently approved collection.

Respondents: Business or other for-profit.

Number of Respondents and Responses: 47 respondents; 47 responses.

Estimated Time per Response: 1264 hours.

Obligation to Respond: Mandatory—The ARMIS reporting requirements were established by the Commission in 1987 to facilitate the timely and efficient analysis of carrier operating costs and rates of return, to provide an improved basis for audits and other oversight functions, and to enhance the Commission's ability to quantify the effects of alternative policy proposals. Additional ARMIS Reports were added in 1991 and 1992. Incumbent LECs must submit the ARMIS reports to the Commission annually on or before April 1. See Reporting Requirements of Certain Class A and Tier I Telephone Companies (Parts 31, 43, 67 and 69 of the FCC's Rules), Order, 2 FCC Rcd 5770 (1987), modified on recon, 3 FCC Rcd 6375 (1988) (ARMIS Order). Also, see 47 CFR Part 43, Section 43.21.

Frequency of Reponse: Annual reporting requirements.

Total Annual Burden: 20,754 hours.

Total Annual Cost: $0.00.

Privacy Act Impact Assessment: No impacts.

Nature of Extent of Confidentiality: This collection addresses information of a confidential nature for two of these reports. Respondents have requested and filed for confidential treatment of information they believe should be withheld from public inspection under 47 CFR Section 0.459 of the Commission's rules.

Needs and Uses: FCC Report 43-02 contains company-wide data for each account specified in the Uniform System of Accounts (USOA). It provides the annual operating results of the carriers' activities for every account in the USOA. In this report, we are adjusting the number of carriers filing the 43-02 ARMIS report from 28 respondents to 26 to reflect the sale of two respondents. We are also increasing the burden hours to reflect the Commission's requirement in its Report and Order and Memorandum Opinion and Order (MOO) released August 31, 2007. The Commission required AT&T, Qwest, and Verizon to include the imputation charges it debits to account 5280 accompanied by an explanatory footnote for each line item identifying the amount imputed in three ARMIS report filings. The MOO required this information in FCC Reports 43-01, ARMIS Annual Summary Report; 43-02, ARMIS USOA Report; and, 43-03, ARMIS Joint Cost Report.

ARMIS Report 43-05 collects data at the study level and holding company level and is designed to capture trends in service quality under price cap regulation. It provides service quality information in the areas of interexchange access service installation and repair intervals, local service installation and repair intervals, trunk blockage, and total switch downtime for price cap companies. We are adjusting the number of respondents submitting the 43-05 from 15 to 14 to reflect the merger of two respondents and the spin-off of their landline business.

ARMIS Report 43-07 is designed to capture trends in telephone industry infrastructure development under price cap regulation. It provides switch deployment and capabilities data. The information is also part of the data necessary to support the Commission's audit and other oversight functions. This data provides the necessary detail to enable the Commission to fulfill its regulatory responsibility.

There are no changes to the ARMIS Report 43-07.

OMB Control Number: 3060-0512.

Title: ARMIS Annual Summary Report.

Report Number: FCC Report 43-01.

Form Number: N/A.

Type of Review: Revision of a currently approved collection.

Respondents: Business or other for-profit.

Number of Respondents and Responses: 124 respondents; 124 responses.

Estimated Time per Response: 90 hours.

Obligation To Respond: Mandatory—The ARMIS reporting requirements were established by the Commission in 1987 to facilitate the timely and efficient analysis of carrier operating costs and rates of return, to provide an improved basis for audits and other oversight functions, and to enhance the Commission's ability to quantify the effects of alternative policy proposals. Additional ARMIS Reports were added in 1991 and 1992. Incumbent LECs must submit the ARMIS reports to the Commission annually on or before April 1. See Reporting Requirements of Certain Class A and Tier I Telephone Companies (Parts 31, 43, 67 and 69 of the FCC's Rules), Order, 2 FCC Rcd 5770 (1987), modified on recon, 3 FCC Rcd 6375 (1988) (ARMIS Order). Also, see 47 CFR Part 43, Section 43.21

Frequency of Response: Annual reporting requirement.

Total Annual Burden: 11,196 hours.

Total Annual Cost: $0.00.

Privacy Act Impact Assessment: No impacts.

Nature of Extent of Confidentiality: This collection does not address information of a confidential nature. Respondents may request confidential treatment for information they believe should be withheld from public inspection under 47 CFR 0.459 of the Commission's rules.

Needs and Uses: FCC Report 43-01 facilitates the annual collection of the results of accounting, rate base, and cost allocation requirements prescribed in Parts 32, 36, 64, 65 and 69 of the Commission's rules. ARMIS was implemented to facilitate the timely and efficient analysis of revenue requirements, rates of return and price caps; to provide an improved basis for audits and other oversight functions; and to enhance the Commission's ability to quantify the effects of alternative policy. The FCC Report 43-01 contains financial and operating data and is used to monitor the incumbent local exchange carriers and to perform routine analyses of cost and revenues. This information is also a part of the data necessary to support the Commission's audit and other oversight functions. This data provides the necessary detail to enable the Commission to fulfill it regulatory responsibility.

The Commission uses an indexed revenue threshold to determine which carriers are required to file the ARMIS Reports. The revenue threshold for mid-sized carriers is currently $134 million. In this collection, we are revising the number of carriers filing this ARMIS report from 126 to 124 to reflect one carrier that fell below the threshold and another carrier that was sold. We are also increasing the burden hours to reflect the Commission's requirement in its Report and Order and Memorandum Opinion and Order (MOO) released August 31, 2007. The Commission required AT&T, Qwest, and Verizon to include the imputation charges it debits to account 5280 accompanied by an explanatory footnote for each line item identifying the amount imputed in three ARMIS report filings. The MOO required this information in FCC Reports 43-01, ARMIS Annual Summary Report; 43-02, ARMIS USOA Report; and, 43-03, ARMIS Joint Cost Report.

OMB Control Number: 3060-0513.

Title: ARMIS Joint Cost Report.

Report Number: FCC Report 43-03.

Form Number: N/A.

Type of Review: Revision of a currently approved collection.

Respondents: Business or other for-profit.

Number of Respondents and Responses: 80 respondents; 80 responses.

Estimated Time per Response: 52 hours.

Obligation to Respond: Mandatory—The ARMIS reporting requirements were established by the Commission in 1987 to facilitate the timely and efficient analysis of carrier operating costs and rates of return, to provide an improved basis for audits and other oversight functions, and to enhance the Commission's ability to quantify the effects of alternative policy proposals. Additional ARMIS Reports were added in 1991 and 1992. Incumbent LECs must submit the ARMIS reports to the Commission annually on or before April 1. See Reporting Requirements of Certain Class A and Tier I Telephone Companies (Parts 31, 43, 67 and 69 of the FCC's Rules), Order, 2 FCC Rcd 5770 (1987), modified on recon, 3 FCC Rcd 6375 (1988) (ARMIS Order). Also, see 47 CFR Part 43, Section 43.21.

Frequency of Response: Annual reporting requirement.

Total Annual Burden: 4,160 hours.

Total Annual Cost: $0.00.

Privacy Act Impact Assessment: No impacts.

Nature of Extent of Confidentiality: This collection does not address information of a confidential nature. Respondents may request confidential treatment of information they believe should be withheld from public inspection under 47 CFR 0.459 of the Commission's rules.

Needs and Uses: The ARMIS Joint Cost Report, FCC Report 04-03, contains financial and operating data. The Report details the incumbent local exchange carriers regulated and nonregulated cost and revenue allocations by study area pursuant to Part 64 of the Commission's rules. This information is also a part of the data necessary to support the Commission's audit and other oversight functions. This data provides the necessary detail to enable the Commission to fulfill it regulatory responsibility. The Commission is revising the number of respondents filing this ARMIS report from 83 to 80 to reflect three carriers that were sold. We are also increasing the burden hours to reflect the Commission's requirement in its Report and Order and Memorandum Opinion and Order (MOO) released August 31, 2007. The Commission required AT&T, Qwest, and Verizon to include the imputation charges it debits to Account 5280 accompanied by an explanatory footnote for each line item identifying the amount imputed in three ARMIS report filings. The MOO required this information in FCC Reports 43-01, ARMIS Annual Summary Report; 43-02, ARMIS USOA Report; and, 43-03, ARMIS Joint Cost Report.

Federal Communications Commission.
Marlene H. Dortch,
Secretary.

[FR Doc. E8-741 Filed 1-16-08; 8:45 am]

BILLING CODE 6712-01-P